DEPARTMENT OF COMMERCE

National Telecommunications and Information Administration

[Docket No. 150224183-5183-01]

RIN 0660-XC016

Privacy, Transparency, and Accountability Regarding Commercial and Private Use of Unmanned Aircraft Systems

AGENCY: National Telecommunications and Information Administration, U.S. Department of Commerce.

ACTION: Request for public comment.

SUMMARY: The National Telecommunications and Information Administration (NTIA) is requesting comment on privacy, transparency, and accountability issues regarding commercial and private use of unmanned aircraft systems (UAS). On February 15, 2015, President Obama issued the Presidential Memorandum “Promoting Economic Competitiveness While Safeguarding Privacy, Civil Rights, and Civil Liberties in Domestic Use of Unmanned Aircraft Systems,” which directs NTIA to establish a multistakeholder engagement process to develop and communicate best practices for privacy, accountability, and transparency issues regarding commercial and private UAS use in the National Airspace System (NAS). Through this notice NTIA commences this process.

DATES: Comments are due on or before 5 p.m. Eastern Time on April 20, 2015.

ADDRESSES: Written comments may be submitted by email to UASrfc2015@ntia.doc.gov. Comments submitted by email should be machine-readable and should not be copy-protected. Written comments also may be submitted by mail to the National Telecommunications and Information Administration, U.S. Department of Commerce, 1401 Constitution Avenue NW., Room 4725, Attn: UAS RFC 2015, Washington, DC 20230. Responders should include the name of the person or organization filing the comment, as well as a page number on each page of their submissions. All comments received are a part of the public record and will generally be posted to http://www.ntia.doc.gov/category/internet-policy-task-force without change. All personal identifying information (for example, name, address) voluntarily submitted by the commenter may be publicly accessible. Do not submit Confidential Business Information or otherwise sensitive or protected information. NTIA will accept anonymous comments.

FOR FURTHER INFORMATION CONTACT: John Verdi or John Morris, National Telecommunications and Information Administration, U.S. Department of Commerce, 1401 Constitution Avenue NW., Room 4725, Washington, DC 20230; telephone (202) 482-8238 or (202) 482-1689; email jverdi@ntia.doc.gov or jmorris@ntia.doc.gov. Please direct media inquiries to NTIA's Office of Public Affairs, (202) 482-7002.

SUPPLEMENTARY INFORMATION: Background: Congress recognized the potential wide-ranging benefits of UAS operations within the United States in the FAA Modernization and Reform Act of 2012 (Public Law 112-95), which requires a plan to safely integrate civil UAS into the NAS by 2015. Compared to manned aircraft, UAS may provide lower-cost operation and augment existing capabilities while reducing risks to human life. Estimates suggest the positive economic impact to U.S. industry of the integration of UAS into the NAS could be substantial and likely will grow for the foreseeable future.¹ UAS may be able to provide a variety of commercial services less expensively than manned aircraft, including aerial photography and farm management, while reducing or eliminating safety risks to aircraft operators. In addition, UAS may be able to provide some commercial services that would be impossible for manned aircraft. For example, improvements in technology may allow small UAS to deliver packages to homes and businesses where manned aircraft cannot land, and high-altitude UAS could provide Internet service to remote areas by remaining aloft for months at a time—far longer than manned aircraft.

¹ Presidential Memorandum, “Promoting Economic Competitiveness While Safeguarding Privacy, Civil Rights, and Civil Liberties in Domestic Use of Unmanned Aircraft Systems,” (Feb. 15, 2015), available at: http://www.whitehouse.gov/the-press-office/2015/02/15/presidential-memorandum-promoting-economic-competitiveness-while-safegua.

On February 15, 2015, President Obama issued the Presidential Memorandum “Promoting Economic Competitiveness While Safeguarding Privacy, Civil Rights, and Civil Liberties in Domestic Use of Unmanned Aircraft Systems.” The Presidential Memorandum states: “[a]s UAS are integrated into the NAS, the Federal Government will take steps to ensure that the integration takes into account not only our economic competitiveness and public safety, but also the privacy, civil rights, and civil liberties concerns these systems may raise.” ² The Presidential Memorandum establishes a “multi-stakeholder engagement process to develop and communicate best practices for privacy, accountability, and transparency issues regarding commercial and private UAS use in the NAS.” ³ The process will include stakeholders from industry, civil society, and academia, and will be initiated by the Department of Commerce, through NTIA, and in consultation with other interested agencies.

² Presidential Memorandum at 1.

³ Presidential Memorandum at 4.

The NTIA-convened process is intended to help address privacy concerns raised by commercial and private UAS. UAS can enable aerial data collection that is more sustained, pervasive, and invasive than manned flight; at the same time, UAS flights can reduce costs, provide novel services, and promote economic growth. These attributes create opportunities for innovation, but also pose privacy challenges regarding collection, use, retention, and dissemination of data collected by UAS. NTIA encourages stakeholders to identify safeguards that address the privacy challenges posed by commercial and private UAS use.

The NTIA-convened process is intended to promote transparent UAS operation by companies and individuals. Transparent operation can include identifying the entities that operate particular UAS, the purposes of UAS flights, and the data practices associated with UAS operations. Transparent UAS operation can enhance privacy and bolster other values. Transparency can help property owners identify UAS if an aircraft erroneously operates or lands on private property. Transparency can also facilitate reports of UAS operations that cause nuisances or appear unsafe. NTIA encourages stakeholders to identify mechanisms, such as standardized physical markings or electronic identifiers, which could promote transparent UAS operation.⁴

⁴ Such standardized physical marking would be in addition to the markings required by the FAA for purposes of registration.

The NTIA-convened process is intended to promote accountable UAS operation by companies and individuals. UAS operators can employ accountability mechanisms to help ensure that privacy protections and transparency policies are enforced within an organization. Accountability mechanisms can include rules regarding oversight and privacy training for UAS pilots, as well as policies for how companies and individuals operate UAS and handle data collected by UAS. Accountability programs can also employ audits, assessments, and internal or external reports to verify UAS operators' compliance with their privacy and transparency commitments. Accountability mechanisms can be implemented by companies, model aircraft clubs, UAS training programs, or others. NTIA encourages stakeholders to identify mechanisms that can promote accountable UAS operation.

NTIA will convene stakeholders in an open and transparent forum to develop consensus best practices for utilization by commercial and private UAS operators. For this process, commercial and private use includes the use of UAS for commercial purposes as civil aircraft, even if the use would qualify a UAS as a public aircraft under 49 U.S.C. 40102(a)(41) and 40125. The process will not focus on law enforcement or other noncommercial governmental use of UAS.

NTIA will convene the first public meeting of the multistakeholder process in the Washington, DC metro area. The meeting will be open to the public, webcast, and NTIA will provide an audio conference bridge. NTIA asks that stakeholders who plan to attend the first meeting express their interest at: http://www.ntia.doc.gov/2015-privacy-multistakeholder-meeting-expression. Expressions of interest will assist NTIA in approximating the number of attendees and identifying an appropriate venue for the meeting.

Request for Comment: NTIA invites public comment on the following issues from all stakeholders, including the commercial, academic, and public interest sectors, lawmakers, and governmental consumer protection and enforcement agencies. NTIA will use the comments to help establish an efficient, effective structure for the multistakeholder engagement and identify the substantive issues stakeholders wish to discuss.

General

1. The Presidential Memorandum asks stakeholders to develop best practices concerning privacy, transparency, and accountability for a broad range of UAS platforms and commercial practices. How should the group's work be structured? Should working groups address portions of the task?

2. Would it be helpful to establish three working groups with one focusing on privacy, one on transparency, and one on accountability? Should such groups work in serial or parallel?

3. Would it be helpful for stakeholders to distinguish between micro, small, and large UAS platforms (e.g., UAS under 4.4 lbs., UAS between 4.4 lbs. and 55 lbs., and UAS over 55 lbs.)? Do smaller or larger platforms raise different issues for privacy, transparency, and accountability?

4. What existing best practices or codes of conduct could serve as bases for stakeholders' work?

Privacy

5. UAS can be used for a wide variety of commercial and private purposes, including aerial photography, package delivery, farm management, and the provision of Internet service. Do some UAS-enabled commercial services raise unique or heightened privacy issues as compared to non-UAS platforms that provide the same services? For example, does UAS-based aerial photography raise unique or heightened privacy issues compared to manned aerial photography? Does UAS-based Internet service raise unique or heightened privacy issues compared to wireline or ground-based wireless Internet service?

6. Which commercial and private uses of UAS raise the most pressing privacy challenges?

7. What specific best practices would mitigate the most pressing privacy challenges while supporting innovation?

Transparency

8. Transparent UAS operation can include identifying the entities that operate particular UAS, the purposes of UAS flights, and the data practices associated with UAS operations. Is there other information that UAS operators should make public?

9. What values can be supported by transparency of commercial and private UAS operation? Can transparency enhance privacy, encourage reporting of nuisances caused by UAS flights, or help combat unsafe UAS flying? Can transparency support other values?

10. How can companies and individuals best provide notice to the public regarding where a particular entity or individual operates UAS in the NAS?

11. What mechanisms can facilitate identification of commercial and private UAS by the public? Would standardized physical markings aid in identifying UAS when the aircraft are mobile or stationary? ⁵ Can UAS be equipped with electronic identifiers or other technology to facilitate identification of UAS by the public?

⁵ Such standardized physical markings would be in addition to the markings required by the FAA for purposes of registration.

12. How can companies and individuals best keep the public informed about UAS operations that significantly impact privacy, anti-nuisance, or safety interests? Would routine reporting by large-scale UAS operators provide value to the public? What might such reporting include? How might it be made publicly available?

13. What specific best practices would promote transparent UAS operation while supporting innovation?

Accountability

14. UAS operators can employ accountability mechanisms to help ensure that privacy protections and transparency policies are enforced within an organization. How can companies, model aircraft clubs, and UAS training programs ensure that oversight procedures for commercial and private UAS operation comply with relevant policies and best practices? Can audits, assessments, or reporting help promote accountability?

15. What rules regarding conduct, training, operation, data handling, and oversight would promote accountability regarding commercial and private UAS operation?

16. What specific best practices would promote accountable commercial and private UAS operation while supporting innovation?

Dated: February 27, 2015.
Lawrence E. Strickling,
Assistant Secretary for Communications and Information.

[FR Doc. 2015-05020 Filed 3-4-15; 8:45 am]

BILLING CODE 3510-60-P